DEPARTMENT OF VETERANS AFFAIRS

National Research Advisory Council, Notice of Meeting

The Department of Veterans Affairs (VA) gives notice under the Federal Advisory Committee Act, 5 U.S.C. Ch. 10, that the National Research Advisory Council (NRAC) will hold a meeting on Wednesday, March 5, 2025, via Teams. The teleconference number is 1-872-701-0185, Phone Conference ID: 569 688 42# or the meeting link is: https://teams.microsoft.com/l/meetup-join/19%3ameeting_YTE1YmI1ZDctZTUwOC00OWIwLTkwYTctMzUwMzI0MTFhNTFj%40thread.v2/0?context=%7b%22Tid%22%3a%22e95f1b23-abaf-45ee-821d-b7ab251ab3bf%22%2c%22Oid%22%3a%226f005f4f-99eb-4f67-8e59-6062b290a2c8%22%7d.

The meeting will convene at 11:00 a.m. and end at 2:30 p.m. Eastern Standard Time. This meeting is open to the public and will include time reserved for public comments at the end of the meeting. The public comment period will be 30 minutes. Individual stakeholders will be afforded three to five minutes to express their comments.

The purpose of NRAC is to advise the Secretary on research conducted by the Veterans Health Administration, including policies and programs targeting the high priority of Veterans' health care needs.

On March 5, 2025, the agenda will include presentations on 100 Years of VA Research; the VA Office of Research and Development Million Veteran Program, the ORD Annual Report, VA administration transition, an update on fiscal year (FY) 2024 NRAC Recommendation(s), the General Accountability Office (GAO) report on research protected time, and public comments.

Members of the public may submit written statements for review by the NRAC in advance of the meeting. Public comments may be received no later than close of business February 19, 2025, for inclusion in the official meeting record. Please send statements to Rashelle Robinson, Designated Federal Officer, Office of Research and Development (14RD), Department of Veterans Affairs, 811 Vermont Avenue NW, Washington, DC 20420, at 202-632.7351, or Rashelle.robinson@va.gov. Any member of the public seeking additional information should contact Rashelle Robinson at the above phone number or email address noted above.

Dated: February 5, 2025.
LaTonya L. Small,
Federal Advisory Committee Management Officer.

[FR Doc. 2025-02425 Filed 2-10-25; 8:45 am]

BILLING CODE 8320-01-P